COMMITTEE FOR PURCHASE FROM PEOPLE WHO ARE BLIND OR SEVERELY DISABLED

Procurement List Additions

AGENCY: Committee for Purchase From People Who Are Blind or Severely Disabled.

ACTION: Additions to procurement list.

SUMMARY: This action adds to the Procurement List a product and services to be furnished by nonprofit agencies employing persons who are blind or have other severe disabilities.

EFFECTIVE DATE: October 19, 2003.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: On June 6, July 11, and 18, 2003, the Committee for Purchase From People Who Are Blind or Severely Disabled published notice (68 FR 33908, 41297, and 42684/42685) of proposed additions to the Procurement List.

After consideration of the material presented to it concerning capability of qualified nonprofit agencies to provide the product and services and impact of the additions on the current or most recent contractors, the Committee has determined that the product and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

Product/NSN: Document Protector 7510-01-236-0059.

NPA: L.C. Industries For The Blind, Inc., Durham, North Carolina.

Contract Activity: Office Supplies & Paper Products Acquisition Center, New York, New York.

Services

Service Type/Location: Janitorial/Custodial National Personnel Records Center, St. Louis, Missouri.

NPA: Challenge Unlimited, Inc., Alton, Illinois.

Contract Activity: GSA, Service Contracts (6PEF-C), Kansas City, Missouri.

Service Type/Location: Janitorial/Grounds and Related Services, Robert F. Peckham Federal Building and U.S. Courthouse, San Jose, California.

NPA: Hope Rehabilitation Services, Santa Clara, California.

Contract Activity: GSA, Public Buildings Service (9PMFC), San Francisco, California.

Service Type/Location: Reproduction and Courier Service Naval Facilities Engineering Command, Engineering Field, Activity—Chesapeake, Washington, DC.

NPA: Sheltered Occupational Center of Northern Virginia, Inc., Arlington, Virginia.

Contract Activity: Naval Facilities Engineering Command, EFA-Chesapeake, Washington, DC.

This action does not affect current contracts awarded prior to the effective date of this addition or options that may be exercised under those contracts.

Sheryl D. Kennerly,
Director, Information Management.

[FR Doc. 03-23952 Filed 9-18-03; 8:45 am]

BILLING CODE 6353-01-P